DEPARTMENT OF COMMERCE

National Oceanic and Atmospheric Administration

[I.D. 020207B]

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Shrimp Review Panel, in Charleston, SC.

DATES: The meeting will take place February 26-27, 2007. The meeting will be held from 1 p.m. to 5 p.m. on February 26, and from 8:30 a.m. to 12 noon on February 27.

ADDRESSES: The meeting will be held at the South Atlantic Fishery Management Council office, 4055 Faber Place Drive, Suite 201, North Charleston, SC 29405; telephone: (843) 571-4366 or toll free (866) SAFMC-10; fax: (843) 769-4520.

FOR FURTHER INFORMATION CONTACT: Kim Iverson, Public Information Officer, South Atlantic Fishery Management Council, telephone: (843) 571-4366 or toll free (866) SAFMC-10; fax: (843) 769-4520; e-mail: kim.iverson@safmc.net.

SUPPLEMENTARY INFORMATION: The meeting is being convened to address the condition of the pink shrimp stock and over-wintering of white shrimp. Amendment 6 to the Fishery Management Plan for the Shrimp Fishery of the South Atlantic Region established a proxy for a minimum stock size threshold as a parent stock size capable of producing maximum sustainable yield (BMSY) the following year. The annual estimates of this BMSY proxy have been below the threshold value for more than two consecutive years. This situation may require future action by the Council, based on the findings and recommendations of its Shrimp Review Panel.

If necessary, the Panel may also make a recommendation on closing the Exclusive Economic Zone (EEZ) to protect over-wintering white shrimp if a closure is requested by the states. The Panel will prepare a report regarding its recommendations and forward it to the Council's Scientific and Statistical Committee and the Shrimp Committee to determine if further action is needed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for auxiliary aids should be directed to the Council office (see ADDRESSES) 3 days prior to the meeting.

Note: The times and sequence specified in this agenda are subject to change.

Dated: February 2, 2007.
Tracey L. Thompson,
Acting Director, Office of Sustainable Fisheries, National Marine Fisheries Service.

[FR Doc. E7-2039 Filed 2-7-07; 8:45 am]

BILLING CODE 3510-22-S